DEPARTMENT OF HEALTH AND HUMAN SERVICES

Administration for Children and Families

Proposed Information Collection Activity; FFY 2022 CCDF Discretionary Funds Reallotment (0970-0510)

AGENCY: Office of Child Care, Administration for Children and Families, HHS.

ACTION: Request for public comment.

SUMMARY: The Administration for Children and Families (ACF), Office of Child Care (OCC) plans to submit a generic information collection (GenIC) request under the following umbrella generic: Generic Clearance for Financial Reports used for ACF Mandatory Grant Programs (0970-0510). This request includes a draft announcement with instructions to be completed by Child Care and Development Fund (CCDF) grant recipients that will be unable to obligate funds that will reach the end of their obligation period on September 30, 2022.

DATES: Comments due within 14 days of publication. In compliance with the requirements of the Paperwork Reduction Act of 1995, ACF is soliciting public comment on the specific aspects of the information collection described above and below.

ADDRESSES: Copies of the proposed collection of information can be obtained and comments may be submitted by emailing infocollection@acf.hhs.gov. All requests should be identified by the title of the information collection.

SUPPLEMENTARY INFORMATION: Description: CCDF regulations authorize HHS to reallot funds to other state and tribal lead agencies that cannot be obligated by states or tribes by the obligation deadline. Pursuant to the CCDF Rule (45 CFR 98.64), each year, the state and tribal lead agency must report to the Secretary the dollar amount from the previous year's grant that it will be unable to obligate by the end of the obligation period. Such reports must be postmarked or emailed by April 1. If the Secretary does not receive a report, any funds that are not obligated by the obligation deadline will revert to the Federal Government.

For the purposes of this data collection, “state” refers to the 50 states, the District of Columbia, and the Commonwealth of Puerto Rico.

The Generic Clearance for Financial Reports used for ACF Mandatory Grant Programs allows ACF programs to assist in the computation of the grant awards issued to each program's grantees. For more information about the umbrella generic, see: https://www.reginfo.gov/public/do/PRAViewDocument?ref_nbr=202108-0970-002.

This specific GenIC will be issued as a Program Instruction and an email announcement on the OCC listserv. State and tribal lead agencies that will be unable to obligate their funds by September 30, 2022, must inform ACF by April 1, 2022. Lead Agencies should submit a letter by mail or email signed by an official authorized to make financial decisions (e.g., Tribal Chair, Agency Director) to their OCC Regional Program Manager and ACF Regional Grants Management Specialist. The letter or email should report the amount of funds for each of the following funding streams that the Lead Agency will be unable to obligate: Grant year 2021 CCDF discretionary funds, and CCDF supplemental funds awarded under the Additional Supplemental Appropriations for Disaster Relief Act, 2019 (Pub. L. 116-20); the Coronavirus Aid, Relief, and Economic Security Act (Pub. L. 116-136); the Coronavirus Response and Relief Supplemental Appropriations Act (Pub. L. 116-260); and the American Rescue Plan Act child care stabilization funds (Pub. L. 117-2). ACF will de-obligate funds that are reported and re-allot those funds to state and tribal lead agencies that request the funds.

Respondents: Respondents will be state and tribal officials authorized to report on behalf of the CCDF program, which will likely be CCDF program administrators.

Annual Burden Estimates
Title of information collection | Number of respondents | Annual frequency of responses | Hourly burden per response | Annual hourly burden
FFY 2022 CCDF Discretionary Funds for Reallotment | 317 | 1 | 1 | 317

Estimated Total Annual Burden Hours: 317.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 14 days of this publication.

Authority: 45 CFR 98.64.

Mary B. Jones,
ACF/OPRE Certifying Officer.

[FR Doc. 2022-03462 Filed 2-16-22; 8:45 am]

BILLING CODE 4184-55-P